DEPARTMENT OF AGRICULTURE

Commodity Credit Corporation

Notice of Request for Extension of a Currently Approved Information Collection

AGENCY: Commodity Credit Corporation, USDA.

ACTION: Notice and request for comments.

SUMMARY: In accordance with the Paperwork Reduction Act of 1995, this notice announces the Commodity Credit Corporation's (CCC) intention to request an extension for a currently approved information collection in support of the CCC Export Credit Guarantee Program (GSM-102) and the CCC Supplier Credit Guarantee Program (SCGP) based on re-estimates.

DATES: Comments on this notice must be received by January 3, 2006 to be assured of consideration.

ADDITIONAL INFORMATION OR COMMENTS: Contact William Hawkins, Director, Program Administration Division, Foreign Agricultural Service, U.S. Department of Agriculture, AgStop 1031, Washington, DC 20250-1031, telephone (202) 720-3241.

SUPPLEMENTARY INFORMATION: Title: CCC Export Credit Guarantee Program (GSM-102) and CCC Supplier Credit Guarantee Program (SCGP).

OMB Number: 0551-0004 (GSM-102) and 0551-0037 (SCGP).

Expiration Date of Approval: February 28, 2006.

Type of Request: Extension of a currently approved information collection.

Abstract: The primary objective of the GSM-102 and SCGP programs is to expand U.S. agricultural exports by making available export credit guarantees to encourage U.S. private sector financing of foreign purchases of U.S. agricultural commodities on credit terms. The CCC currently has programs operating in at least 40 countries and country regions, with 169 exporters eligible to participate. Under 7 CFR Part 1493, exporters are required to submit the following: (1) Information about the exporter for program participation, (2) export sales information in connection with applying for a payment guarantee, (3) information regarding the actual export of the commodity, (evidence of export report), (4) notice of default and claims for loss, and (5) other documents, if applicable, including notice of assignment of the right to receive proceeds under the export credit guarantee. In addition, each exporter and exporter's assignee (U.S. financial institution) must maintain records on all information submitted to CCC and in connection with sales made under GSM-102, and SCGP. The information collected is used by CCC to manage, plan, evaluate and account for government resources. The reports and records are required to ensure the proper and judicious use of public funds.

Estimate of Burden: The public reporting burden for these collections is estimated to average 0.49 hours per GSM-102 response and 0.64 hours per SCGP response.

Respondents: Exporters of U.S. agricultural commodities, banks or other financial institutions, producer associations, export trade associations, and U.S. Government agencies.

Estimated Number of Respondents: 298 per annum.

Estimated Number of Responses per Respondent: 74.3 per annum.

Estimated Total Annual Burden of Respondents: 12,480.1 hours.

Copies of this information collection can be obtained from Kimberly Chisley, the Agency Information Collection Coordinator, at (202) 720-2568.

Requests for Comments: Send comments regarding (a) Whether the proposed collection of information is necessary for the proper performance of the functions of the agency, including whether the information will have practical utility; (b) the accuracy of the agency's estimate of the burden of the proposed collection of information; (c) ways to enhance the quality, utility and clarity of the information to be collected; and (d) ways to minimize the burden of the collection of information on those who are to respond, including through the use of automated, electronic, mechanical, or other technological collection techniques or other forms of information technology. Comments may be sent to William Hawkins, Director, Program Administration Division, Foreign Agricultural Service, U.S. Department of Agriculture, AgStop 1031, Washington, DC 20250-1031, or to the Desk Officer for Agriculture, Office of Information and Regulatory Affairs, Office of Management and Budget, Washington, DC 20503. Persons with disabilities who require an alternative means for communication of information (Braille, large print, audiotape, etc.) should contact USDA's Target Center at (202) 720-2600 (voice and TDD).

All responses to this notice will be summarized and included in the request for OMB approval.

All comments will also become a matter of public record.

Dated: October 14, 2005.
A. Ellen Terpstra,
Administrator, Foreign Agricultural Service.

[FR Doc. 05-21675 Filed 10-31-05; 8:45 am]

BILLING CODE 3410-10-M